DEPARTMENT OF COMMERCE

Foreign-Trade Zones Board

[B-58-2021]

Foreign-Trade Zone (FTZ) 43—Battle Creek, Michigan; Notification of Proposed Production Activity; Pfizer, Inc. (mRNA COVID-19 Vaccine); Kalamazoo, Michigan

Pfizer, Inc. (Pfizer) submitted a notification of proposed production activity to the FTZ Board for its facilities in Kalamazoo, Michigan. The notification conforming to the requirements of the regulations of the FTZ Board (15 CFR 400.22) was received on August 6, 2021.

Pfizer already has authority to produce pharmaceutical, consumer healthcare and animal healthcare products within Subzone 43E. The current request would add a finished product and a foreign-status material/component to the scope of authority. Pursuant to 15 CFR 400.14(b), additional FTZ authority would be limited to the specific foreign-status material/component and specific finished product described in the submitted notification (as described below) and subsequently authorized by the FTZ Board.

Production under FTZ procedures could exempt Pfizer from customs duty payments on the foreign-status material/component used in export production. On its domestic sales, for the foreign-status material/component noted below and in the existing scope of authority, Pfizer would be able to choose the duty rate during customs entry procedures that applies to the mRNA COVID-19 vaccine (duty-free). Pfizer would be able to avoid duty on foreign-status components which become scrap/waste. Customs duties also could possibly be deferred or reduced on foreign-status production equipment.

The proposed foreign-status material/component is mRNA bulk drug substance (duty rate—6.5%). The company currently intends to ship mRNA bulk drug substance produced at its facility in Andover, Massachusetts (Subzone 27R) to its Kalamazoo facilities for further processing.

Public comment is invited from interested parties. Submissions shall be addressed to the Board's Executive Secretary and sent to: ftz@trade.gov. The closing period for their receipt is September 27, 2021.

A copy of the notification will be available for public inspection in the “Reading Room” section of the Board's website, which is accessible via www.trade.gov/ftz.

For further information, contact Diane Finver at Diane.Finver@trade.gov.

Dated: August 12, 2021.
Andrew McGilvray,
Executive Secretary.

[FR Doc. 2021-17692 Filed 8-17-21; 8:45 am]

BILLING CODE 3510-DS-P